FEDERAL COMMUNICATIONS COMMISSION

[OMB 3060-1096, OMB 3060-1222; FR ID 286900]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might further reduce the information collection burden for small business concerns with fewer than 25 employees.

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before May 1, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1096.

Title: Prepaid Calling Card Service Provider Certification, WC Docket No. 05-68.

Form Number: N/A.

Type of Review: Extension of a currently approved collection.

Respondents: Business or other for-profit entities.

Number of Respondents and Responses: 121 respondents; 1,452 responses.

Estimated Time per Response: 2.5 hours-20 hours.

Frequency of Response: Quarterly reporting requirement, third party disclosure requirement and recordkeeping requirement.

Obligation to Respond: Mandatory. Statutory authority for this information collection is contained in 47 U.S.C. 151, 152, 154(i), 201, 202 and 254 of the Communications Act of 1934, as amended.

Total Annual Burden: 12,100 hours.

Total Annual Cost: No cost.

Needs and Uses: Prepaid calling card service providers must report quarterly the percentage of interstate, intrastate and international access charges to carriers from which they purchase transport services. Prepaid calling card providers must also file certifications with the Commission quarterly that include the above information and a statement that they are contributing to the federal Universal Service Fund based on all interstate and international revenue, except for revenue from the sale of prepaid calling cards by, to, or pursuant to contract with the Department of Defense (DoD) or a DoD entity.

OMB Control Number: 3060-1222.

Title: Incarcerated People's Communications Services (IPCS) Provider Annual Reporting, Certification, and Other Requirements, WC Docket Nos. 23-62, 12-375.

Form Number(s): FCC Form 2301(a) and FCC Form 2301(b).

Type of Review: Revision of a currently approved information collection.

Respondents: Business or other for-profit.

Number of Respondents and Responses: 35 respondents; 47 responses.

Estimated Time per Response: 5-200 hours.

Frequency of Response: Annual reporting and certification reporting requirements, third party disclosure requirements, and on-occasion reporting requirements.

Obligation to Respond: Mandatory. Statutory authority for this collection of information is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Just and Reasonable Communications Act of 2022, Public Law 117-338, 136 Stat. 6156.

Total Annual Burden: 15,175 hours.

Total Annual Cost: No cost.

Needs and Uses: This notice addresses the paperwork burdens associated with several sets of new and revised rules that the Commission adopted to implement the Martha Wright-Reed Just and Reasonable Communications Act of 2022 (Martha Wright-Reed Act or Act), which expands the Commission's statutory authority over communications between incarcerated people and the non-incarcerated to include “any audio or video communications service used by inmates . . . regardless of technology used.” The new Act also amends section 2(b) of the Communications Act of 1934, as amended (Communications Act), to make clear that the Commission's authority extends to intrastate as well as interstate and international communications services used by incarcerated people.

The Act directs the Commission to “promulgate any regulations necessary to implement” it, including the mandate that the Commission establish a “compensation plan” ensuring that all rates and charges for IPCS “are just and reasonable,” not earlier than 18 months and not later than 24 months after the Act's January 5, 2023 enactment date. Pursuant to that directive, on July 22, 2024, the Commission released the 2024 IPCS Order, FCC 24-75, 89 FR 77244 (Sept. 20, 2024), which fundamentally reforms the regulation of IPCS in all correctional facilities, regardless of the technology used to deliver these services, and significantly lowers the IPCS rates that incarcerated people and their loved ones will pay.

The 2024 IPCS Order comprehensively reforms the regulation of the IPCS industry to implement the Martha Wright-Reed Act, addressing six major rulemaking areas that implicate the PRA. This submission seeks OMB review of five of these areas: disability access (new paperwork requirements), alternate pricing plans (new paperwork requirements), inactive accounts (new paperwork requirements), consumer disclosure (revised paperwork requirements), and waiver requests (revised paperwork requirements). These revisions include the addition of new rules addressing disability access, alternate pricing plans, and inactive accounts; and changes to the rules addressing consumer disclosure, annual reporting and certification rules, waiver reporting, rate cap, site commission, and ancillary service charges. Separately, we are seeking comment on paperwork burdens arising from the sixth area—revisions to the annual reporting and certification rules.

New Rules Requiring OMB Review

47 CFR 64.6040(f) (Accessible formats)—requiring among other information collection requirements, that the information and documentation IPCS providers furnish to current or potential consumers of IPCS is accessible;

47 CFR 64.6130(d) through (f) and (h) through (k) (Protection of consumer funds in inactive accounts)—requiring, among other information requirements, that providers follow certain specified procedures when an IPCS account is deemed inactive, including contacting account holders when an incarcerated person is released or transferred; and

47 CFR 64.6140(c) and (d), (e)(2) through (4), and (f)(2) and (4) (Alternate Pricing Plans)—requiring, among other information collection requirements, that providers choosing to offer alternate pricing plans comply with the rules generally applicable to all IPCS, in addition to specific consumer protection and disclosure rules.

Revised Requirements for Which the Commission Is Seeking OMB Review

47 CFR 64.6110(a) and (c) through (g) (Consumer Disclosure of Incarcerated People's Communications Services Rates)—requiring, among other information collection requirements, that providers post on their public websites clear, accurate, and conspicuous information about their IPCS offerings, including information on rates, charges, and associated practices; and

47 CFR 64.6120 (Waiver process)—requiring, among other information collection requirements, that providers follow certain procedures when filing waiver requests, including a showing that the request will not result in unjust and unreasonable IPCS rates and charges.

Previously-Approved Information Collection Requirements

47 CFR 64.6040(c) (Communications Access for Incarcerated People with Communications Disabilities)—requiring, among other information collection requirements, that providers, as part of their obligation to provide access to Telecommunications Relay Service (TRS), notify the TRS provider(s) when an incarcerated person who has individually registered to use Video Relay Service (VRS), internet Protocol Relay Service (IP Relay), or internet Protocol Captioned Telephone Service (IP CTS) is released from incarceration or transferred to another correctional facility.

47 CFR 64.6060 (Annual Reporting and Certification Requirements)—requiring IPCS providers, among other information collection requirements, to file certain pricing and related data and information annually to promote transparency and heighten IPCS providers' accountability. In 2015, the Commission released the Second Report and Order and Third Notice of Further Proposed Rulemaking, WC Docket No. 12-375, 30 FCC Rcd 12763, 80 FR 79135 (Dec. 18, 2015) (2015 ICS Order), in which it required that inmate calling services (ICS) providers file Annual Reports providing data and other information on their ICS operations, as well as Annual Certifications that the reported information is complete and accurate and complies with the Commission's ICS rules. Pursuant to the authority delegated them by the Commission, WCB and the Consumer and Governmental Affairs Bureau (collectively, the Bureaus) released an Order on January 8, 2025, WC Docket Nos. 23-62, 12-375, DA 25-23 (rel. Jan. 8, 2025) (2025 Annual Reports Order), https://www.fcc.gov/document/2025-ipcs-annual-reports-order, revising the instructions and reporting templates for the Annual Reports, as well as the associated certification form. The revisions reflect previous proposals by the Bureaus, including those regarding access to IPCS and TRS by persons with communication disabilities, as well as refinements and modifications made in response to comments in support of more streamlined, and therefore less burdensome, overall reporting obligations. The revisions also reflect the Commission's expanded authority under the Martha Wright-Reed Act, including authority over video IPCS and video-only IPCS providers.

In this submission, we are seeking OMB review of the paperwork burdens arising from the new rules addressing disability access, alternate pricing plans and inactive accounts and from the revisions to the consumer disclosure rules and waiver reporting requirements. We are also seeking renewal of the previously-approved paperwork requirements for communications access for incarcerated people with communication disabilities in section 64.6040(c) of the Commission's rules, as well as renewal of the previously approved paperwork requirements for the annual reporting and certification rule.

We will continue to address the paperwork burdens associated with the revisions to the annual reporting and certification rules separately.

Federal Communications Commission.
Marlene Dortch,
Secretary, Office of the Secretary.

[FR Doc. 2025-05548 Filed 3-31-25; 8:45 am]

BILLING CODE 6712-01-P